DEPARTMENT OF THE INTERIOR

Bureau of Land Management

[LLNMF02000 L54200000.FR0000 LVDIG16ZGKN0]

Notice of Application for a Recordable Disclaimer of Interest, New Mexico

AGENCY: Bureau of Land Management, Department of the Interior.

ACTION: Notice.

SUMMARY: The Bureau of Land Management (BLM) received an application for a Recordable Disclaimer of Interest (RDI) from Eric Oppenheimer/The Simmons Firm pursuant to Section 315 of the Federal Land Policy and Management Act of 1976 (FLPMA), as amended, and BLM regulations for the surface estate of deeded lands lying between certain deeded lands and the adjusted right bank of the Rio Ojo Caliente in Rio Arriba County, New Mexico. This Notice is intended to inform the public of the pending application, give notice of the BLM's intent to grant the requested RDI, and provide a public comment period for the RDI.

DATES: Comments on this action should be received by April 23, 2018.

ADDRESSES: Written comments must be sent to the Deputy State Director, Lands and Resources, BLM, New Mexico State Office, P.O. Box 27115, Santa Fe, NM 87502-0115.

FOR FURTHER INFORMATION CONTACT: Mark Lujan, Realty Specialist, BLM Taos Field Office, (575) 751-4747. Additional information pertaining to this application can be reviewed in case file NMNM134206 located in the Taos Field Office, 226 Cruz Alta Road, Taos, NM 87571. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The United States of America, through the BLM, Department of the Interior, pursuant to Section 315 of FLPMA, hereby disclaims an interest in the surface estate for the following parcels of land situated in Ojo Caliente, New Mexico.

All lands situated between the monumented 1977 recorded east boundary of the Antonio de Abeyta Grant and the present medial line of the Rio Ojo Caliente, southward of the partition line originating on the first mile of that east boundary, as shown on the boundary survey plat certified by Larry L. Sterling, New Mexico Professional Surveyor No. 11010, and filed with the Rio Arriba County Clerk on April 2, 2014, and northward of the intersection of that medial line with line 3-4 on the second mile of that east boundary, as shown on the same boundary survey plat. These lands are generally adjacent to sections 13, 24, 25, and 26 of Township 23 North, Range 8 East, New Mexico Principal Meridian, New Mexico.

All those lands situated between the monumented 1977 recorded east boundary of the Antonio de Abeyta Grant and the present medial line of the Rio Ojo Caliente, southward of the point of intersection of that medial line with line 4-5 on the second mile of that east boundary and northward of the point of intersection of that medial line with line 5-6 on the third mile of that east boundary, as shown on the boundary survey plat certified by Larry L. Sterling, New Mexico Professional Surveyor No. 11010 and filed with the Rio Arriba County Clerk on April 2, 2014. These lands are generally adjacent to sections 26 and 35 of Township 23 North, Range 8 East, New Mexico Principal Meridian, New Mexico.

The areas in the above described parcels along a portion of the east boundary of the Antonio de Abeyta Grant are riparian and subject to accretions and or erosion. This determination is based on the geographical call of the river and a decision by the Interior Board of Land Appeals (IBLA) No. 85-839, Holly H. Baca, decided April 30, 1987.

By this action, the United States of America hereby releases and relinquishes any claim of interest to the surface estate of the above described land. This action does not address any subsurface interest that may still be vested with the United States of America.

The public is hereby notified that comments may be submitted to the Deputy State Director at the address shown above within the comment period identified in the notice. Any adverse comments will be evaluated by the State Director who may modify or vacate this action and issue a final determination. In the absence of any action by the State Director, this Notice will become the final determination of the Department of the Interior, and a disclaimer may be issued 90 days from publication of this Notice.

Comments, including names and street addresses of commenters, will be available for public review at the BLM New Mexico State Office (see address above), during regular business hours, Monday through Friday, except Federal holidays. Before including your address, phone number, email address, or other personal identifying information in your comment, you should be aware that your entire comment—including your personal identifying information—may be made publicly available at any time. While you can ask us in your comment to withhold your personal identifying information from public review, we cannot guarantee that we will be able to do so.

Authority: 43 CFR 1864.2(a).

Debby Lucero,
Acting Deputy State Director, Lands and Resources.

[FR Doc. 2018-00965 Filed 1-19-18; 8:45 am]

BILLING CODE 4310-FB-P